ENVIRONMENTAL PROTECTION AGENCY

[FRL-8746-5; Docket ID No. EPA-HQ-ORD-2008-0663]

An Exposure Assessment of Polybrominated Diphenyl Ethers

AGENCY: Environmental Protection Agency (EPA).

ACTION: Notice of Public Comment Period.

SUMMARY: EPA is announcing a 30-day public comment period for the draft document titled, “An Exposure Assessment of Polybrominated Diphenyl Ethers” (EPA/600/R-08/086A). The document was prepared by the National Center for Environmental Assessment within EPA's Office of Research and Development. The document provides a comprehensive assessment of the exposure of Americans to polybrominated diphenyl ethers, PBDEs, a class of brominated flame retardants. It includes chapters on use and production of PBDEs, environmental fate, environmental and exposure media concentrations, and an exposure assessment including background exposures and exposures to special populations.

EPA is releasing this draft document solely for the purpose of pre-dissemination peer review under applicable information quality guidelines. This document has not been formally disseminated by EPA. It does not represent and should not be construed to represent any Agency policy or determination. EPA will consider any public comments submitted in accordance with this notice when revising the document.

DATES: The 30-day public comment period begins December 4, 2008, and ends January 5, 2009. Technical comments should be in writing and must be received by EPA by January 5, 2009.

ADDRESSES: The draft “An Exposure Assessment of Polybrominated Diphenyl Ethers “ is available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, your mailing address, and the document title, “An Exposure Assessment of Polybrominated Diphenyl Ethers”.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Matthew Lorber, NCEA; telephone: 703-347-8535; facsimile: 703-347-8692; or e-mail: lorber.matthew@epa.gov.

SUPPLEMENTARY INFORMATION:

I. Information About the Project/Document

The United States Environmental Protection Agency (EPA) has formed a working group comprised of individuals from several program offices including the Offices of Pesticides, Prevention, and Toxic Substances; the Office of Water; the Office of Research and Development; and the Office of Policy, Economics, and Innovation, to study production, use, alternatives, environmental fate, exposure, and health effects of polybrominated diphenyl ethers (PBDEs). This working group issued a project plan in 2006 that outlined projects in these areas. EPA reports regularly on progress in completing the activities identified in the project plan, with the most recent status report issued in March 2008. The Web site that describes this working group, including the project plan, is http://www.epa.gov/oppt/pbde. This draft document addresses the exposure assessment needs identified in that project plan. It provides a comprehensive assessment of the exposure of Americans to this class of persistent organic pollutants. Individual chapters in this document address: The production, use, and lifecycle of PBDEs; environmental fate; environmental and exposure media levels; and human exposure.

II. How To Submit Technical Comments to the Docket at http://www.regulations.gov

Submit your comments, identified by Docket ID No. EPA-HQ-ORD-2008-0663, by one of the following methods:

• http://www.regulations.gov: Follow the online instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2008-0663. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: November 19, 2008.
Rebecca Clark,
Acting Director, National Center for Environmental Assessment.

[FR Doc. E8-28713 Filed 12-3-08; 8:45 am]

BILLING CODE 6560-50-P